DEPARTMENT OF HEALTH AND HUMAN SERVICES

Health Resources and Services Administration

Title III Early Intervention Services Program

AGENCY: Health Resources and Services Administration, HHS.

ACTION: Notice of availability of funds; correction.

SUMMARY: In notice document FR Doc. 02-9814, Vol. 67, No. 78, Tuesday, April 23, 2002, make the following correction:

On page 19761 in the second column under OBTAINING APPLICATION GUIDANCE AND KIT, correct the website address to be: www.hab.hrsa.gov/grant.htm.

Dated: May 16, 2002.
Jane M. Harrison,
Director, Division of Policy Review and Coordination.

[FR Doc. 02-12785 Filed 5-21-02; 8:45 am]

BILLING CODE 4165-15-P